DEPARTMENT OF COMMERCE

National Oceanic and Atmospheric Administration

RIN 0648-XC245

Gulf of Mexico Fishery Management Council; Public Meetings

AGENCY: National Marine Fisheries Service (NMFS), National Oceanic and Atmospheric Administration (NOAA), Commerce.

ACTION: Notice of a public meetings.

SUMMARY: The Gulf of Mexico Fishery Management Council will convene a meeting of the Standing, Special Shrimp and Special Reef Fish Scientific and Statistical Committees (SSC), including a joint session of the Standing SSC and Socioeconomic SSC, and a joint session of the Gulf Council's Standing and Special Reef Fish SSC with the South Atlantic Fishery Management Council's SSC; and a separate meeting of the Socioeconomic Scientific and Statistical Committee.

DATES: The Standing, Special Shrimp and Special Reef Fish SSC meeting will convene at 9 a.m. on Tuesday, October 9, 2012, and conclude by noon, Thursday, October 11, 2012. The Socioeconomic SSC meeting will convene at 9 a.m. on Wednesday, October 10th and conclude by 5 p.m. Thursday, October 11, 2012.

ADDRESSES: The meeting will be held at the Grand Hyatt Tampa Bay, 2900 Bayport Drive, Tampa, FL 33607; telephone: (813) 874-1234.

Council address: Gulf of Mexico Fishery Management Council, 2203 N. Lois Avenue, Suite 1100, Tampa, FL 33607.

FOR FURTHER INFORMATION CONTACT: For the Standing, Special Shrimp and Special Reef Fish SSC: Steven Atran, Population Dynamics Statistician. For the Socioeconomic SSC: Dr. Assane Diagne, Economist; both located at Gulf of Mexico Fishery Management Council; telephone: (813) 348-1630.

SUPPLEMENTARY INFORMATION: The Standing and Special Shrimp SSC will meet jointly on Tuesday, October 9, 2012, to review stock assessments on brown shrimp, white shrimp and pink shrimp. These are updates to stock assessments presented to the SSC in June, but with landings data through 2011. Based on these assessments, the SSC may review its recommendations from June for overfishing limit (OFL) and acceptable biological catch (ABC). On Wednesday morning, October 10, 2012, from 9 a.m. to noon, the Standing SSC will meet jointly with the Socioeconomic SSC to discuss the roles of the Standing and Socioeconomic SSCs. On Wednesday afternoon, October 10, 2012, from 1:30 p.m. to 5 p.m., the Standing and Special Reef Fish SSC will meet jointly with the South Atlantic Fishery Management Council's SSC to review a yellowtail snapper benchmark assessment (SEDAR 27). Based on the assessment, the SSCs will determine an OFL and set an ABC for the stock as a whole. For management purposes, the ABC will be apportioned 75% to the South Atlantic and 25% to the Gulf. On Thursday, October 11, 2012, the Standing and Special Reef Fish SSC will meet jointly to review and approve the terms of reference for gag and greater amberjack benchmark assessments (SEDAR 34) and select attendees for the gag benchmark assessment workshops. In addition, the SSC will discuss review methods for the SEDAR 28 (Gulf of Mexico Spanish Mackerel and Cobia) benchmark assessment. The SSC will also review recommendations from the ABC Control Rule Working Group on revisions to the ABC control rule implemented in January 2012 under the Generic Annual Catch Limits/Accountability Measures Amendment. Finally, the SSC will review the SEDAR assessment schedule and priorities, and proposed dates for 2013 SSC meetings.

The Socioeconomic Scientific and Statistical Committee will convene on Wednesday, October 10 and Thursday, October 11 to discuss the structure and roles of the Scientific and Statistical Committees and issues related to the red snapper individual fishing quota (IFQ) program and its 5-year review, including an evaluation of the economic performance of the program, the 2011 red snapper IFQ report, IFQ survey results, trends in the program, and the review process. The committee will also discuss issues related to the allocation of red snapper resources, including an economic evaluation of red snapper allocation and social aspects of allocation. The committee also plans to elect a new chair and vice-chair.

Copies of the agenda and other related materials can be obtained by calling (813) 348-1630 or can be downloaded from the Council's ftp site: ftp.gulfcouncil.org.

Although other non-emergency issues not on the agenda may come before the Scientific and Statistical Committees for discussion, in accordance with the Magnuson-Stevens Fishery Conservation and Management Act, those issues may not be the subject of formal action during this meeting. Actions of the Scientific and Statistical Committees will be restricted to those issues specifically identified in the agenda and any issues arising after publication of this notice that require emergency action under Section 305(c) of the Magnuson-Stevens Fishery Conservation and Management Act, provided the public has been notified of the Council's intent to take action to address the emergency.

Special Accommodations

This meeting is physically accessible to people with disabilities. Requests for sign language interpretation or other auxiliary aids should be directed to Kathy Pereira at the Council Office (see ADDRESSES) at least 5 working days prior to the meeting.

Dated: September 18, 2012.
Tracey L. Thompson,
Acting Deputy Director, Office of Sustainable Fisheries, National Marine Fisheries Service.

[FR Doc. 2012-23311 Filed 9-20-12; 8:45 am]

BILLING CODE 3510-22-P